DEPARTMENT OF VETERANS AFFAIRS

Advisory Committee on Minority Veterans, Notice of Meeting

The Department of Veterans Affairs (VA) gives notice under the Public Law 92-463 (Federal Advisory Committee Act) that the Advisory Committee on Minority Veterans will meet November 5-7, 2007, at the Hyatt Arlington, Gallery Conference Room, 1325 Wilson Boulevard, Arlington, VA. On November 5 and 6 the sessions will be from 7:30 a.m. to 4:30 p.m. and on November 8 from 7:30 a.m. to 4 p.m. The meeting is open to the public.

The purpose of the Committee is to advise the Secretary on the administration of VA benefits and services to minority veterans, to assess the needs of minority veterans and to evaluate whether VA compensation, medical and rehabilitation services, outreach, and other programs are meetings those needs. The Committee will make recommendations to the Secretary regarding such activities.

On November 5, the agenda will include briefings and updates on the Center for Minority Veterans, VA Strategic Plan, and the presentation of Certificates of Appointment to six Committee members. On November 6, the agenda will include briefings and updates on Faith-Based Initiatives, Veterans Health Administration, Mental Health Initiatives, Homeless Veterans Program, Center for Women Veterans, and Statistics of Minority VA Employees. On November 7, the agenda will include briefings and updates on the Veterans Benefits Administration, Office of Research and Development, National Cemetery Administration, Small and Disadvantaged Business Utilization. The agenda will also include an OEF/OIF “Soldier to Veteran” panel. On November 8, the agenda will include a briefing and update on collaboration between VA and the Indian Health Service. The Committee will also review and analyze comments presented during the meeting and will discuss future site visits and areas of focus.

Any member of the public wishing to attend should contact Ms. Juanita J. Mullen, at the Department of Veterans Affairs, Center for Minority Veterans (00M), 810 Vermont Avenue, NW., Washington, DC 20420. Ms. Mullen may be contacted either by phone at (202) 461-6191, fax at (202) 273-7092, or e-mail at Juanita.mullen@va.gov. Interested persons may attend, appear before, or file statements with the Committee. Written statements must be filed before the meeting, or within 10 days after the meeting.

Dated: October 15, 2007.
By Director of the Secretary.
E. Philip Riggin,
Committee Management Officer.

[FR Doc. 07-5163 Filed 10-18-07; 8:45 am]

BILLING CODE 8320-01-M